DEPARTMENT OF TRANSPORTATION

Federal Aviation Administration

14 CFR Part 39

[Docket No. FAA-2009-1110; Directorate Identifier 2009-NM-116-AD]

RIN 2120-AA64

Airworthiness Directives; Bombardier Model CL-600-2C10 (Regional Jet Series 700, 701 & 702), CL-600-2D15 (Regional Jet Series 705), and CL-600-2D24 (Regional Jet Series 900) Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as: During testing, it was discovered that when the outflow valve (OFV) manual mode connector is not connected, the manual mode motor and altitude limitation are not properly tested. Consequently, a disconnect of the OFV manual mode and/or a related wiring failure could potentially result in a dormant loss of several CPC [cabin pressure control] backup/safety functions, including OFV manual control, altitude limitation, emergency depressurization and smoke clearance.

The proposed AD would require actions that are intended to address the unsafe condition described in the MCAI.

DATES: We must receive comments on this proposed AD by January 19, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Fabio Buttitta, Aerospace Engineer, Airframe and Mechanical Systems Branch, ANE-171, FAA, New York Aircraft Certification Office, 1600 Stewart Avenue, Suite 410, Westbury, New York 11590; telephone (516) 228-7303; fax (516) 794-5531.

SUPPLEMENTARY INFORMATION:

Comments Invited

We invite you to send any written relevant data, views, or arguments about this proposed AD. Send your comments to an address listed under the ADDRESSES section. Include “Docket No. FAA-2009-1110; Directorate Identifier 2009-NM-116-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

On May 6, 2009, we issued AD 2009-10-10, Amendment 39-15906 (74 FR 22646, May 14, 2009). That AD required actions intended to address an unsafe condition on the products listed above. AD 2009-10-10 states that the planned compliance times for certain actions (paragraphs (f)(2) and (f)(3) of AD 2009-10-10 allow modification (software update) of the cabin pressure control units and cabin pressure control panels, which constituted optional terminating action for the required inspections) would allow enough time to provide notice and opportunity for prior public comment on the merits of those actions. We now have determined that further rulemaking is necessary to mandate the previously optional actions. This AD follows from that determination.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 353 products of U.S. registry.

The actions that are required by AD 2009-10-10 and retained in this proposed AD take about 2 work-hours per product, at an average labor rate of $80 per work hour. Based on these figures, the estimated cost of the currently required actions is $160 per product.

We estimate that it would take about 3 work-hours per product to comply with the new basic requirements of this proposed AD. The average labor rate is $80 per work-hour. Required parts would cost about $43,000 per product. Where the service information lists required parts costs that are covered under warranty, we have assumed that there will be no charge for these costs. As we do not control warranty coverage for affected parties, some parties may incur costs higher than estimated here. Based on these figures, we estimate the cost of the new basic requirements of this proposed AD on U.S. operators to be $15,263,720, or $43,240 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15906 (74 FR 22646, May 14, 2009) and adding the following new AD:

Bombardier Inc. (Formerly Canadair): Docket No. FAA-2009-1110; Directorate Identifier 2009-NM-116-AD.

Comments Due Date

(a) We must receive comments by January 19, 2010.

Affected ADs

(b) The proposed AD supersedes AD 2009-10-10, Amendment 39-15906.

Applicability

(c) This AD applies to Bombardier Model CL-600-2C10 (Regional Jet Series 700, 701, & 702) airplanes, certificated in any category, serial numbers 10003 through 10260 inclusive; and Model CL-600-2D15 (Regional Jet Series 705) and CL-600-2D24 (Regional Jet Series 900) airplanes, certificated in any category, serial numbers 15001 through 15095 inclusive.

Subject

(d) Air Transport Association (ATA) of America Code 21: Air Conditioning.

Reason

(e) The mandatory continuing airworthiness information (MCAI) states:

During testing, it was discovered that when the outflow valve (OFV) manual mode connector is not connected, the manual mode motor and altitude limitation are not properly tested. Consequently, a disconnect of the OFV manual mode and/or a related wiring failure could potentially result in a dormant loss of several CPC [cabin pressure control] backup/safety functions, including OFV manual control, altitude limitation, emergency depressurization and smoke clearance. This deficiency is applicable to CPC units, Part Number (P/N) GG670-98002-3 and -5, and CPCP [cabin pressure control panel], Part Number GG670-98001-5, -7 and -9.

This directive mandates an interim repetitive check of the OFV manual mode motor and altitude limitation functions, followed by modification (software update) of the CPC units and the CPCP.

The corrective action for findings of improper OFV manual mode motor and altitude limitation functions is replacing the valve with a new or serviceable valve.

Restatement of Requirements of AD 2009-10-10

Actions and Compliance

(f) Unless already done, do the following actions. Within 450 flight hours after May 29, 2009 (the effective date of AD 2009-10-10), inspect the OFV for proper operation of the manual mode motor and altitude limitation functions, in accordance with Part A of the Accomplishment Instructions of Bombardier Alert Service Bulletin A670BA-21-022, dated August 3, 2006 (“the service bulletin”). If the OFV manual mode motor or altitude limitation functions do not operate properly, before further flight, do the actions specified in paragraphs (f)(1) and (f)(2) of this AD. Repeat the inspection thereafter at intervals not to exceed 450 flight hours. Accomplishing the actions specified in paragraph (g) of this AD terminates the requirements of this paragraph.

(1) Make sure that the electrical connectors, MPE23P1 and MPE23P2, are connected to the OFV.

(2) Repeat the inspection of the OFV for proper operation of the manual mode motor and altitude limitation functions, in accordance with Part A of the service bulletin. If the OFV manual mode motor or altitude limitation functions do not operate properly, before further flight, replace the OFV with a new or serviceable valve in accordance with Tasks 21-32-01-000-801 and 21-32-01-400-801 of the Bombardier CRJ Regional Jet Series Aircraft Maintenance Manual, CSP B-001, Part 2, Volume 1, Revision 28, dated January 20, 2009, and do the inspection of the OFV specified in paragraph (f) of this AD.

New Requirements of This AD

Actions and Compliance

(g) Unless already done, do the following actions.

(1) Prior to accomplishing paragraph (g)(2) of this AD: Install modified or new CPC units, part number GG670-98002-7, in accordance with Part B of the Accomplishment Instructions of Bombardier Alert Service Bulletin A670BA-21-022, dated August 3, 2006.

(2) Within 4,500 flight hours after the effective date of this AD: Install modified or new CPCPs, part number GG670-98001-11, in accordance with Part C of the Accomplishment Instructions of Bombardier Alert Service Bulletin A670BA-21-022, dated August 3, 2006. Doing the actions required by paragraph (g)(2) of this AD terminates the requirements of paragraph (f) of this AD.

FAA AD Differences

Note 1: This AD differs from the MCAI and/or service information as follows: The MCAI and Bombardier Alert Service Bulletin A670BA-21-022, dated August 3, 2006, do not describe corrective actions for findings of improper OFV manual mode motor and altitude limitation functions. This AD requires the actions in paragraphs (f)(1) and (f)(2) of this AD, which include replacing the valve if the OFV manual mode motor or altitude limitation functions do not operate properly.

Other FAA AD Provisions

(h) The following provisions also apply to this AD:

(1) Alternative Methods of Compliance (AMOCs): The Manager, New York Aircraft Certification Office (ACO), ANE-170, FAA, has the authority to approve AMOCs for this AD, if requested using the procedures found in 14 CFR 39.19. Send information to ATTN: Program Manager, Continuing Operational Safety, FAA, New York ACO, 1600 Stewart Avenue, Suite 410, Westbury, New York 11590; telephone (516) 228-7300; fax (516) 794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Canadian Airworthiness Directive CF-2009-08, dated March 9, 2009; Bombardier Alert Service Bulletin A670BA-21-022, dated August 3, 2006; and Tasks 21-32-01-000-801 and 21-32-01-400-801 of the Bombardier CRJ Regional Jet Series Aircraft Maintenance Manual, CSP B-001, Part 2, Volume 1, Revision 28, dated January 20, 2009; for related information.

Issued in Renton, Washington, on November 19, 2009.
Stephen P. Boyd,
Acting Manager, Transport Airplane Directorate, Aircraft Certification Service.

[FR Doc. E9-28856 Filed 12-2-09; 8:45 am]

BILLING CODE 4910-13-P